DEPARTMENT OF THE INTERIOR

Bureau of Land Management

[WY-060-08-1610-DR]

Notice of Availability of the Record of Decision for the Casper Resource Management Plan/Environmental Impact Statement, Wyoming

AGENCY: Bureau of Land Management, Interior.

ACTION: Notice of Availability.

SUMMARY: In accordance with the National Environmental Policy Act of 1969 and the Federal Land Policy and Management Act of 1976, and the Bureau of Land Management (BLM) management policies, the BLM announces the availability of the Record of Decision (ROD)/Approved Resource Management Plan (RMP) for the Casper Field Office located in Converse, Goshen, Natrona, and Platte counties, Wyoming. The Wyoming State Director signed the ROD, which constitutes the final decision of the BLM and makes the Approved RMP effective immediately.

ADDRESSES: Copies of the ROD/Approved RMP are available upon request from the Field Manager, Casper Field Office, Bureau of Land Management, 2987 Prospector Drive, Casper, WY 82604 or via the Internet at http://www.blm.gov/rmp/casper/.

FOR FURTHER INFORMATION CONTACT: Linda Slone, RMP Project Manager, Bureau of Land Management, 2987 Prospector Drive, Casper, WY 82604; telephone (307) 261-7520; fax (307) 261-7587; e-mail CRMP_wymail@blm.gov with Casper RMP in the subject line.

SUPPLEMENTARY INFORMATION: The Approved Casper RMP was developed with broad public participation through a 4 year collaborative planning process. The Approved RMP addresses management on approximately 1.4 million acres of BLM-administered public land surface and 4.7 million acres of Federal mineral estate in east-central Wyoming. The ROD/Approved Casper RMP replaces the 1985 Platte River ROD/RMP.

The Approved RMP is designed to achieve or maintain desired future conditions developed through the planning process. It includes a series of management actions to meet the desired resource conditions for physical, biological, and heritage resources while providing opportunities for various resource uses: i.e. livestock grazing; energy and mineral exploration and development; rights-of-way and corridors; and recreation and off-highway vehicle use.

The Preferred Alternative (Alternative E) presented in the Draft RMP/EIS was carried forward in the Proposed RMP/Final EIS published on June 8, 2007. In response to the 30 day protest period that ended on July 9, 2007, two protest letters were received and responded to by the BLM.

In response to the additional 60 day public review and comment period on supplemental information regarding proposed ACECs that ended on August 7, 2007, no ACEC related comments were received, but seven public response documents were received on the PRMP/FEIS. The BLM reviewed and responded to all submittals. No inconsistencies with State or local plans, policies, or programs were identified during the Governor's consistency review of the Proposed RMP/Final EIS. As a result, only minor editorial modifications were made in preparing the Approved RMP. These modifications provided further clarification for some of the decisions.

Any implementation decisions that incorporate this document may be appealed pursuant to 43 CFR, part 4. Any party who believes that they are adversely affected by the BLM's proposed action(s) may appeal within 30 days of the publication of this Notice. The appeal should clearly identify the specific actions being appealed. Please consult 43 CFR, part 4 for further information on the IBLA appeals process.

Dated: October 12, 2007.
Robert A. Bennett,
State Director.

[FR Doc. E7-23897 Filed 12-7-07; 8:45 am]

BILLING CODE 4310-22-P